DEPARTMENT OF THE INTERIOR

Bureau of Land Management

[WO-350-1430-PN]

Notice of Availability of the Record of Decision for the Wind Energy Development Programmatic Environmental Impact Statement (PEIS) and Associated Land Use Plan Amendments

AGENCY: Bureau of Land Management, Interior.

ACTION: Notice of Availability of Record of Decision (ROD).

SUMMARY: In accordance with the National Environmental Policy Act (NEPA), the Federal Land Policy and Management Act (FLPMA), and Bureau of Land Management (BLM) procedures, the BLM announces the availability of the ROD to implement a Wind Energy Development Program and amend BLM land use plans. The decision is hereby made to implement a comprehensive Wind Energy Development Program to administer the development of wind energy resources on BLM-administered public lands in 11 western states, excluding Alaska. In addition, this decision amends 52 BLM land use plans in 9 states to adopt the new program. The Assistant Director, Minerals, Realty and Resource Protection and the Assistant Director, Renewable Resources and Planning jointly signed the ROD on December 15, 2005.

ADDRESSES: Copies of the Wind Energy Development Program ROD are available upon request from Scott Powers, Montana State Office, Bureau of Land Management, 5001 Southgate Dr., Billings, Montana 59107 or via the Internet at http://windeis.anl.gov. Copies will also be available at each of the following BLM offices: Arizona State Office, 222 N. Central Ave., Phoenix; California State Office, 2800 Cottage Way, Suite W-1834, Sacramento; Colorado State Office, 2850 Youngfield St., Lakewood; Idaho State Office, 1387 S. Vinnell Way, Boise; Montana State Office, 5001 Southgate Dr., Billings; Nevada State Office, 1340 Financial Blvd., Reno; New Mexico State Office, 1474 Rodeo Rd., Santa Fe; Oregon State Office, 333 SW. 1st Ave., Portland; Utah State Office, 440 West 200 South, Salt Lake City; Wyoming State Office, 5353 Yellowstone Rd., Cheyenne; and BLM Washington Office, Public Affairs Office.

FOR FURTHER INFORMATION CONTACT: Scott Powers, at 406-896-5319, (or e-mail at scott_powers@blm.gov), Montana State Office, Bureau of Land Management, 5001 Southgate Dr., Billings, Montana 59107.

SUPPLEMENTARY INFORMATION: The Wind Energy Development Program ROD was developed through preparation of the Final Programmatic Environmental Impact Statement on Wind Energy Development on BLM-Administered Lands in the Western United States. The elements of the Wind Energy Development Program and the associated land use plan amendments were evaluated through this PEIS, which was prepared in accordance with the National Environmental Policy Act (NEPA) and the FLPMA. The U.S. Department of Energy (DOE) cooperated in the preparation of the PEIS in support of the BLM's proposed action.

The Wind Energy Development Program will be implemented in 11 western states: Arizona, California, Colorado, Idaho, Montana, Nevada, New Mexico, Oregon, Utah, Washington, and Wyoming. The Program establishes policies and best management practices (BMPs) for the administration of wind energy development activities and establishes minimum requirements for mitigation measures. The policies and BMPs, included in Attachment A of the ROD, address the mitigation of potential impacts to all natural and cultural resources that could occur during any phase of development. These include impacts such as the use of geologic and water resources; creation or increase of geologic hazards or soil erosion; water quality degradation; localized generation of airborne dust; generation of noise; alteration or degradation of wildlife habitat or sensitive or unique habitat; interference with resident or migratory fish or wildlife species, including protected species; alteration or degradation of plant communities, including the occurrence of invasive vegetation; land use changes; alteration of visual resources; release of hazardous materials or wastes; increased traffic; increased human health and safety hazards; and destruction or loss of paleontological or cultural resources.

With the decision to implement the Wind Energy Development Program, the BLM Interim Wind Energy Policy, dated October 16, 2002, will be replaced by a new policy that incorporates the programmatic policies and BMPs evaluated in the PEIS. Elements of the Interim Policy addressing applications, authorizations, competitive interests, and due diligence will not be changed by the new program requirements.

In addition, this decision amends 52 BLM land use plans in 9 of the states in the study area: Colorado, Idaho, Montana, Nevada, New Mexico, Oregon, Utah, Washington, and Wyoming. The land use plan amendments, identified in Attachment B of the ROD, include the adoption of the Wind Energy Development Program policies and BMPs and, in a few instances, the identification of specific areas where wind energy development will be excluded.

Public involvement in preparation of the Wind Energy Development PEIS was extensive, as documented in the PEIS and the ROD. The 30-day public protest period resulted in no protests. In addition, results of the 90-day Governors Consistency Review of the PEIS, required by BLM planning regulations, were favorable in that none of the Governors objected to the proposed plan amendments.

On May 18, 2001, the President issued Executive Order (E.O.) 13212, “Actions to Expedite Energy-Related Projects,” which established a policy that federal agencies should take appropriate actions, to the extent consistent with applicable law, to expedite projects to increase the production, transmission, or conservation of energy. In that same month, the President's National Energy Policy Development Group recommended to the President, as part of the National Energy Policy, that the Departments of the Interior, Energy, Agriculture, and Defense work together to increase renewable energy production. On August 8, 2005, the President signed into law the Energy Policy Act of 2005 (Pub. L. 109-58). Section 211 of the Act states, “It is the sense of the Congress that the Secretary of the Interior should, before the end of the 10-year period beginning on the date of enactment of this Act, seek to have approved non-hydropower renewable energy projects located on the public lands with a generation capacity of at least 10,000 megawatts of electricity.” Implementation of the Wind Energy Development Program and the amendment of multiple land use plans to adopt the program will effectively support the directives of E.O. 13212, the recommendations of the 2001 National Energy Policy, and congressional direction provided in the Energy Policy Act of 2005 regarding renewable energy development on public lands.

Dated: December 19, 2005.
Ray Brady,
Team Lead, Energy Policy Act Implementation Team.

[FR Doc. E6-157 Filed 1-10-06; 8:45 am]

BILLING CODE 4310-84-P